DEPARTMENT OF COMMERCE

National Oceanic and Atmospheric Administration

Agency Information Collection Activities; Submission to the Office of Management and Budget (OMB) for Review and Approval; Comment Request; Analysis of and Participation in Ocean Exploration Video Products

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 21, 2023 during a 60-day comment period. This notice allows for an additional 30 days for public comments.

Agency: National Oceanic and Atmospheric Administration (NOAA), Commerce.

Title: Analysis of and Participation in Ocean Exploration Video Products.

OMB Control Number: 0648-0748.

Form Number(s): None.

Type of Request: Regular submission (revision of a current information collection).

Number of Respondents: 4,100 total (3,100 unique respondents).

Average Hours per Response: 10 minutes.

Burden Hours: 714.

Needs and Uses: NOAA Ocean Exploration (OER) is the only federal organization dedicated to ocean exploration. By using unique capabilities in terms of personnel, technology, infrastructure, and exploration missions, OER is reducing unknowns in deep-ocean areas and providing high-value environmental intelligence needed by NOAA and the nation to address both current and emerging science and management needs. Through live video and data streams, online coverage, training opportunities, and events, we allow scientists, resource managers, students, members of the general public, and others to actively experience ocean exploration, allowing broader scientific participation, and cultivating the next generation of ocean explorers, and engaging the public in exploration activities. To better understand our ocean, our office makes exploration data available to the public. This allows us, collectively, to more effectively maintain ocean health, sustainably manage our marine resources, accelerate our national economy, and build a better appreciation of the value and importance of the ocean in our everyday lives. It is only through leveraging resources internally and externally that we can truly achieve our mission.

Since the inception of NOAA's exploration program in 2001, OER data management has been guided by the 2000 President's Panel Report recommendations which prioritized rapid and unrestricted data sharing as one of five critical exploration program components. More recently, Public Law 111-11 [Section XII Ocean Exploration] reinforced and expanded OER data management objectives, continuing to stress the importance of sharing unique exploration data and information to improve public understanding of the oceans, and for research and management purposes.

Telepresence satellite communication from the ship to shore brings the unknown ocean to the screens of both scientists and the general public in their homes, schools or offices in near real time. With technology constantly evolving, it is important to address the needs of the shore-based scientists and public to maintain a high level of participation. We use voluntary surveys to identify the needs of users of data, best approaches to leverage expertise of shore-based participants for meaningful public engagement focused on ocean exploration.

The five forms used to collect information are as follows: (1) Sailing Contact Information. This form is sent to the few scientists that directly sail on NOAA Ship Okeanos Explorer. The ship's operational officer needs certain information such as: if a sailing individual has securely submitted their proper medical documents to NOAA's Office of Marine and Aviation Operations; if the person is up to date with required security documents, such as a passport, if the ship is traveling to a foreign port; any dietary restrictions so that the person will be served food that is safe. (2) Okeanos Explorer Participation Assessment. This voluntary form is sent to the scientists that sailed on or participated remotely in any Okeanos Explorer cruise funded by OER to record any feedback they wish to provide to the office about their experience. The office uses their feedback in assessments for improving the utility and experience of these scientific guests sailing on the Okeanos Explorer. (3) EX Collaboration Tools Feedback. This voluntary form is sent to members of the marine scientific community at the beginning of a fiscal year to ask if members would like to participate in any of the upcoming cruises and to what degree, such as simply asking to be included in emailed updates or if they want to be on a direct line to the ship for remotely operated vehicle dive operations. (4) Citizen Scientist. This voluntary form is available to general members of the public and is used for members to improve the annotation efforts when watching short video clips of 30 seconds to 5 minutes. (5) Science Lead Interest. This voluntary form will be used to solicit interest from the scientific community to serve as a Science Lead on one of NOAA Ocean Exploration's expeditions.

The first forms described above will include minor revisions, and the fifth form is a new addition. The Sailing Contact Information form will be revised to include updated informational attachments (e.g., links to updated COVID guidance, medical clearance, underwater cultural heritage protocols) and updated expedition names and dates for a given calendar year. The Okeanos Explorer Participation Assessment will be revised to replace some technical/scientific questions with questions that relate to communication, leadership, and workplace climate. The EX Collaboration Tools form will be revised to include updated informational attachments (e.g., underwater cultural heritage protocols) and updated expedition names and dates for a calendar year. The Citizen Scientist form will be updated for expedition names and dates for a calendar year.

Affected Public: Targeted towards the greater ocean exploration community; Individuals or households; business or other for-profit organizations; not-for-profit institutions; Federal government.

Frequency: EX Collaboration Tools Feedback: annually; all other forms are on occasion.

Respondent's Obligation: Sailing Contact Information: Required to obtain or retain benefits; all other forms are voluntary.

Legal Authority: Public Law 111-11 [Section XII Ocean Exploration].

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0748.

Sheleen Dumas,
Department PRA Clearance Officer, Office of the Under Secretary for Economic Affairs, Commerce Department.

[FR Doc. 2023-22320 Filed 10-5-23; 8:45 am]

BILLING CODE 3510-KD-P